DEPARTMENT OF COMMERCE

National Oceanic and Atmospheric Administration

Coastal Programs Division

AGENCY: Coastal Programs Division, Office of Ocean and Coastal Resource Management, National Ocean Service, National Oceanic and Atmospheric Administration, U.S. Department of Commerce.

ACTION: Notice of approval of extension of deep sea hard mineral exploration licenses and amended exploration plan.

SUMMARY: On February 29, 2012, NOAA published a notice and request for comments in the Federal Register at 77 FR 12245 on the request of Lockheed Martin Corp. to extend the deep seabed hard mineral exploration licenses USA-1 and USA-4 issued under the Deep Seabed Hard Mineral Resources Act (DSHMRA; 30 U.S.C. 1401-1473) and approve the amended exploration plan for those licenses.

No comments were received objecting to the approval of the extension and amended exploration plan. Comments were received only from the Western Pacific Fisheries Management Council (WPFMC) and the United States Department of State. The WPFMC noted that none of the fisheries under its jurisdiction were likely to be affected by any activities outlined in the extension request. The Department of State noted that international recognition of the areas covered by the licenses requires approval by the International Seabed Authority (ISA) and that without accession of the United States to the Law of the Sea (LOS) Convention, the United States cannot sponsor a U.S. company at the ISA. The Department further noted that if the U.S. accedes to the LOS Convention that it would be necessary to make conforming changes to these exploration licenses. NOAA acknowledges and accepts the comments from WPFMC and the Department of State.

Under its authority and in conformance with the requirements under DSHMRA and the DSHMRA regulations at 15 CFR part 970, NOAA approved the extension of both licenses for five years along with the amended exploration plan on June 1, 2012. No changes have been made to the terms, conditions or restrictions of the licenses.

FOR FURTHER INFORMATION CONTACT: Kerry Kehoe, Coastal Programs Division (NORM/3), Office of Ocean and Coastal Resource Management, NOS, NOAA, 1305 East-West Highway, Silver Spring MD 20910; email Kerry.Kehoe@noaa.gov.

Federal Domestic Assistance Catalog 11.419 Coastal Zone Management Program Administration.

Dated: June 29, 2012.
David M. Kennedy,
Assistant Administrator for the National Ocean Service, National Oceanic and Atmospheric Administration.

[FR Doc. 2012-16794 Filed 7-9-12; 8:45 am]

BILLING CODE 3510-08-P